DEPARTMENT OF ENERGY

Federal Energy Regulatory Commission

Combined Notice of Filings #1

Take notice that the Commission received the following electric rate filings:

Docket Numbers: ER17-1531-007.

Applicants: CPV Fairview, LLC.

Description: Notice of Change in Status of CPV Fairview, LLC.

Filed Date: 4/27/22.

Accession Number: 20220427-5299.

Comment Date: 5 p.m. ET 5/18/22.

Docket Numbers: ER19-2019-004.

Applicants: Tucson Electric Power Company.

Description: Compliance filing: TEP Formula Rate Compliance Filing to be effective 8/1/2019.

Filed Date: 4/27/22.

Accession Number: 20220427-5157.

Comment Date: 5 p.m. ET 5/18/22.

Docket Numbers: ER20-2577-003.

Applicants: Southwest Power Pool, Inc., American Electric Power Service Corporation.

Description: Compliance filing: Southwest Power Pool, Inc. submits tariff filing per 35: Supp Compliance Filing in Rsp. to Order Issued in ER20-2577 (AEP West Transcos) to be effective 1/27/2020.

Filed Date: 4/26/22.

Accession Number: 20220426-5226.

Comment Date: 5 p.m. ET 5/17/22.

Docket Numbers: ER22-907-001.

Applicants: Indeck Niles, LLC.

Description: Compliance filing: Compliance Filing to be effective 3/29/2022.

Filed Date: 4/26/22.

Accession Number: 20220426-5211.

Comment Date: 5 p.m. ET 5/17/22.

Docket Numbers: ER22-944-001.

Applicants: Black Rock Wind Force, LLC.

Description: Compliance filing: Informational Filing to be effective 3/1/2022.

Filed Date: 4/27/22.

Accession Number: 20220427-5055.

Comment Date: 5 p.m. ET 5/18/22.

Docket Numbers: ER22-1688-000.

Applicants: Tucson Electric Power Company.

Description: § 205(d) Rate Filing: Rate Schedule No. 351, Balancing Authority Services Agreement to be effective 5/3/2022.

Filed Date: 4/26/22.

Accession Number: 20220426-5215.

Comment Date: 5 p.m. ET 5/17/22.

Docket Numbers: ER22-1689-000.

Applicants: NorthWestern Corporation.

Description: Tariff Amendment: Cancellation of SA 884: Agreement with Fagen, Inc. to be effective 4/28/2022.

Filed Date: 4/27/22.

Accession Number: 20220427-5000.

Comment Date: 5 p.m. ET 5/18/22.

Docket Numbers: ER22-1690-000.

Applicants: Southwest Power Pool, Inc.

Description: § 205(d) Rate Filing: 3931 Tyr Energy and Sunflower Electric Meter Agent Agreement to be effective 4/1/2022.

Filed Date: 4/27/22.

Accession Number: 20220427-5016.

Comment Date: 5 p.m. ET 5/18/22.

Docket Numbers: ER22-1691-000.

Applicants: American Transmission Systems, Incorporated, PJM Interconnection, L.L.C.

Description: § 205(d) Rate Filing: American Transmission Systems, Incorporated submits tariff filing per 35.13(a)(2)(iii: ATSI submits two ECSAs, SA Nos. 6334 and 6339 to be effective 6/27/2022.

Filed Date: 4/27/22.

Accession Number: 20220427-5086.

Comment Date: 5 p.m. ET 5/18/22.

Docket Numbers: ER22-1692-000.

Applicants: Mid-Atlantic Interstate Transmission, LLC, PJM Interconnection, L.L.C.

Description: § 205(d) Rate Filing: Mid-Atlantic Interstate Transmission, LLC submits tariff filing per 35.13(a)(2)(iii: MAIT submits one ECSA, SA No. 6336 to be effective 6/27/2022.

Filed Date: 4/27/22.

Accession Number: 20220427-5098.

Comment Date: 5 p.m. ET 5/18/22.

Docket Numbers: ER22-1693-000.

Applicants: West Penn Power Company, PJM Interconnection, L.L.C.

Description: § 205(d) Rate Filing: West Penn Power Company submits tariff filing per 35.13(a)(2)(iii: WPP submits One ECSA, SA No. 6291 to be effective 6/27/2022.

Filed Date: 4/27/22.

Accession Number: 20220427-5111.

Comment Date: 5 p.m. ET 5/18/22.

Docket Numbers: ER22-1694-000.

Applicants: Midcontinent Independent System Operator, Inc.

Description: § 205(d) Rate Filing: 2022-04-27_SA 3818 Ameren IL-Fulton Wind FSA (J974) to be effective 6/27/2022.

Filed Date: 4/27/22.

Accession Number: 20220427-5243.

Comment Date: 5 p.m. ET 5/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2022.
Debbie-Anne A. Reese,
Deputy Secretary.

[FR Doc. 2022-09453 Filed 5-2-22; 8:45 am]

BILLING CODE 6717-01-P